DEPARTMENT OF VETERANS AFFAIRS

Notice of Availability of the Record of Decision for the Final Programmatic Environmental Impact Statement of the Department of Veterans Affairs Housing Loan Program

AGENCY: Department of Veterans Affairs.

ACTION: Notice of availability.

SUMMARY: The Department of Veterans Affairs (VA) announces the availability of the Record of Decision (ROD) for the Final Programmatic Environmental Impact Statement (PEIS) for VA's Housing Loan Program (HLP). Notice of the Final PEIS was published by the U.S. Environmental Protection Agency (EPA) in the Federal Register on July 15, 2022. The VA Under Secretary for Benefits signed the ROD on October 4, 2022, which was at least 30 days after publication of EPA's Notice of Availability.

ADDRESSES: The ROD is available at the VA website https://www.benefits.va.gov/homeloans/environmental_impact.asp. Printed copies of the document may be obtained by contacting VA at VAHLPNEPA.VBAVACO@va.gov.

FOR FURTHER INFORMATION CONTACT: Erin Byrum, Lead Management Analyst, Loan Guaranty Service, Veterans Benefit Administration, Department of Veterans Affairs, 810 Vermont Avenue NW, Washington, DC 20420, at VAHLPNEPA.VBAVACO@va.gov or by phone at 202-632-8862. This is not a toll-free number.

SUPPLEMENTARY INFORMATION: The Final PEIS was developed pursuant to the National Environmental Policy Act (NEPA) of 1969, as amended (42 U.S.C. 4321, et seq.), the Council on Environmental Quality's regulations for implementing the procedural provisions of NEPA (40 CFR 1500-1508) and VA's NEPA regulations titled “Environmental Effects of the Department of Veterans Affairs Actions” (38 CFR 26).

The Final PEIS assessed the potential physical, environmental, cultural, socioeconomic and cumulative effects of the HLP and will be used to assist and inform agency planning and decision-making. The HLP assists hundreds of thousands of Veterans each year across the United States and its Territories. This PEIS process has ensured VA appropriately considered the potential effects of the HLP, a major Federal action, on the quality of the human environment, as required by 40 CFR 1500.1.

Signing Authority

Denis McDonough, Secretary of Veterans Affairs, approved this document on December 7, 2022, and authorized the undersigned to sign and submit the document to the Office of the Federal Register for publication electronically as an official document of the Department of Veterans Affairs.

Luvenia Potts,
Regulation Development Coordinator, Office of Regulation Policy & Management, Office of the Secretary, Department of Veterans Affairs.

[FR Doc. 2022-26980 Filed 12-12-22; 8:45 am]

BILLING CODE 8320-01-P